SMALL BUSINESS ADMINISTRATION

[Declaration of Disaster #3426]

State of Arizona; (Amendment #1); Disaster Loan Areas

In accordance with a notice received from the Federal Emergency Management Agency, dated July 2, 2002, the above numbered declaration is hereby amended to include Coconino and Gila Counties in the State of Arizona as disaster areas due to damages caused by wildfires occurring on June 18, 2002 and continuing.

In addition, applications for economic injury loans from small businesses located in the following contiguous counties may be filed until the specified date at the previously designated location: Maricopa, Mohave, Pinal and Yavapai Counties in Arizona; and Kane County in Utah. All other counties contiguous to the above named primary counties have been previously declared.

All other information remains the same, i.e., the deadline for filing applications for physical damage is August 24, 2002, and for economic injury the deadline is March 25, 2003.

(Catalog of Federal Domestic Assistance Program Nos. 59002 and 59008)
Dated: July 5, 2002.
S. George Camp,
Acting Associate Administrator for Disaster Assistance.

[FR Doc. 02-17465 Filed 7-10-02; 8:45 am]

BILLING CODE 8025-01-P